DEPARTMENT OF TRANSPORTATION

Surface Transportation Board

[STB Finance Docket No. 33903]

Sunflour Railroad, Inc.—Acquisition and Operation Exemption—Soo Line Railroad Company

Sunflour Railroad, Inc. (SFR), a noncarrier, has filed a verified notice of exemption under 49 CFR 1150.31 to acquire from Soo Line Railroad Company (Soo) and operate approximately 26.3 miles of rail line extending from a connection with Soo at milepost 210.0, near Rosholt, to the end of track at milepost 236.3, in Veblen, in Marshall and Roberts Counties, SD (Rosholt-Veblen line).¹

¹ According to the verified notice of exemption, Soo will withdraw its abandonment application for the eastern portion of the Rosholt-Veblen line, from Rosholt to west of Claire City, SD, now pending before the Board in STB Docket No. AB-57 (Sub-No. 51), Soo Line Railroad Company—Abandonment—in Roberts County, SD. The abandonment of the western portion of the Rosholt-Veblen line from Claire City to Veblen was previously exempted by the Board in Soo Line Railroad Company—Abandonment Exemption—in Marshall and Roberts Counties, SD, STB Docket No. AB-57 (Sub-No. 50X) (STB served Jan. 11, 2000). The verified notice of exemption further indicates that Soo has not consummated that abandonment. Thus, Soo is now proposing to sell the Rosholt-Veblen line instead of abandoning it.

The transaction is scheduled to be consummated on July 31, 2000.

This transaction is related to STB Finance Docket No. 33904, Thomas Z. Mars—Continuance in Control Exemption—Sunflour Railroad, Inc., wherein Thomas Z. Mars has concurrently filed a verified notice to continue in control of SFR upon its becoming a Class III rail carrier.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33903, must be filed with the Surface Transportation Board, Office of the Secretary, Case Control Unit, 1925 K Street, NW, Washington, DC 20423-0001. In addition, a copy of each pleading must be served on William C. Sippel, Esq., Fletcher & Sippel LLC, Two Prudential Plaza, Suite 3125, 180 North Stetson Avenue, Chicago, IL 60601-6721.

Board decisions and notices are available on our website at “WWW.STB.DOT.GOV.”

Decided: July 19, 2000.
By the Board, David M. Konschnik, Director, Office of Proceedings.
Vernon A. Williams,
Secretary.

[FR Doc. 00-18797 Filed 7-24-00; 8:45 am]

BILLING CODE 4915-00-P